COMMISSION ON CIVIL RIGHTS

Notice of Public Meeting of the Iowa Advisory Committee; Revision of Meeting Date

AGENCY: Commission on Civil Rights.

ACTION: Notice; revision of meeting date.

SUMMARY: The Commission on Civil Rights published a notice in the Federal Register concerning a meeting of the Iowa Advisory Committee. The meeting on Thursday, January 9, 2025, at 3:00 p.m. (CT) is now scheduled for the following Thursday, January 16, 2025, at 3:00 p.m. (CT). The Zoom meeting details are still: https://www.zoomgov.com/webinar/register/WN_kDEmPTAGSf6SRFIkdrEuzA (Registration Link), USA Phone Toll Free (Audio Only) 1-833-435-1820; Meeting ID: 161 597 4723. The notice is in the Federal Register of Monday, October 21, 2024, in FR Doc. 2024-24268, in the third column of page 84112, and the first column of 84113.

FOR FURTHER INFORMATION CONTACT: Mallory Trachtenberg, 202-809-9618, mtrachtenberg@usccr.gov.

Dated: January 3, 2025.
David Mussatt,
Supervisory Chief, Regional Programs Unit.

[FR Doc. 2025-00311 Filed 1-8-25; 8:45 am]

BILLING CODE 6335-01-P